DEPARTMENT OF TRANSPORTATION

Federal Aviation Administration

14 CFR Part 95

Instrument Flight Rule Altitudes in Designated Mountainous Areas

AGENCY: Federal Aviation Administration (FAA), DOT.

ACTION: Final rule; technical amendment.

SUMMARY: The FAA is amending its regulations concerning the use of instrument flight rule (IFR) altitudes. Specifically, a duplicate coordinate in the description of the Eastern United States Mountainous Area is being removed.

DATES: This amendment becomes effective October 28, 2008.

FOR FURTHER INFORMATION CONTACT: Ellen Crum, Air Traffic Systems Operations, Airspace and Rules Group, ATO-R, Federal Aviation Administration, 800 Independence Ave., SW., Washington, DC 20591; telephone (202) 267-8783, facsimile (202) 267-9328.

SUPPLEMENTARY INFORMATION:

Background

On April 28, 1956, FAA published a final rule revising the regulations concerning minimum en route IFR altitudes (21 FR 2750). Section 610.8 concerned the designation of mountainous areas. This section was later redesignated as § 95.13 (28 FR 6718, June 29, 1963).

When the section was originally written, one set of coordinates for the Eastern United States Mountainous Region (latitude 42°13′ N, longitude 72° 44′ W) was inadvertently repeated. This final rule removes the repeated coordinates to avoid confusion.

Technical Amendment

This technical amendment merely removes duplicate coordinates. There are no other changes to the list of coordinates.

Justification for Immediate Adoption

Because this action removes duplicated information, the FAA finds that notice and public comment under 5 U.S.C. section 553(b) is unnecessary. For the same reason, the FAA finds that good cause exists under 5 U.S.C. section 553(d) for making this rule effective upon publication.

List of Subjects in 14 CFR Part 95

Air traffic control, Airspace, Navigation (air).

The Amendment

In consideration of the foregoing, the Federal Aviation Administration amends Chapter I of Title 14, Code of Federal Regulations, as follows:

PART 95—IFR ALTITUDES

1. The authority citation for part 95 continues to read as follows:

Authority: 49 U.S.C. 106(g), 40103, 40113, and 14 CFR 11.49(b)(2).

2. Amend § 95.13 by revising the text of paragraph (a) following the map to read as follows:

§ 95.13 Eastern United States Mountainous Area.

* * * * *

(a) * * *

Beginning at latitude 47°10′ N., longitude 67°55′ W.; thence west and south along the Canadian Border to latitude 45°00′ N., longitude 74°15′ W.; thence to latitude 44°20′ N., longitude 75°30′ W.; thence to latitude 43°05′ N., longitude 75°30′ W.; thence to latitude 42°57′ N., longitude 77°30′ W.; thence to latitude 42°52′ N., longitude 78°42′ W.; thence to latitude 42°26′ N., longitude 79°13′ W.; thence to latitude 42°05′ N., longitude 80°00′ W.; thence to latitude 40°50′ N., longitude 80°00′ W.; thence to latitude 40°26′ N., longitude 79°54′ W.; thence to latitude 38°25′ N., longitude 81°46′ W.; thence to latitude 36°00′ N., longitude 86°00′ W.; thence to latitude 33°37′ N., longitude 86°45′ W.; thence to latitude 32°30′ N., longitude 86°25′ W.; thence to latitude 33°22′ N., longitude 85°00′ W.; thence to latitude 36°35′ N., longitude 79°20′ W.; thence to latitude 40°11′ N., longitude 76°24′ W.; thence to latitude 41°24′ N., longitude 74°30′ W.; thence to latitude 41°43′ N., longitude 72°40′ W.; thence to latitude 42°13′ N., longitude 72°44′ W.; thence to latitude 43°12′ N., longitude 71°30′ W.; thence to latitude 43°45′ N., longitude 70°30′ W.; thence to latitude 45°00′ N., longitude 69°30′ W.; thence to latitude 47°10′ N., longitude 67°55′ W., point of beginning.

* * * * *

Issued in Washington, DC, on October 23, 2008.
Pamela Hamilton-Powell,
Director, Office of Rulemaking.

[FR Doc. E8-25692 Filed 10-27-08; 8:45 am]

BILLING CODE 4910-13-P